DEPARTMENT OF DEFENSE

GENERAL SERVICES ADMINISTRATION

NATIONAL AERONAUTICS AND SPACE ADMINISTRATION

48 CFR Chapter 1

[Docket No. FAR-2019-0001, Sequence No. 5]

Federal Acquisition Regulation; Federal Acquisition Circular 2019-06; Small Entity Compliance Guide

AGENCY: Department of Defense (DoD), General Services Administration (GSA), and National Aeronautics and Space Administration (NASA).

ACTION: Small Entity Compliance Guide.

SUMMARY: This document is issued under the joint authority of DOD, GSA, and NASA. This Small Entity Compliance Guide has been prepared in accordance with section 212 of the Small Business Regulatory Enforcement Fairness Act of 1996. It consists of a summary of the rules appearing in Federal Acquisition Circular (FAC) 2019-06, which amends the Federal Acquisition Regulation (FAR). An asterisk (*) next to a rule indicates that a regulatory flexibility analysis has been prepared. Interested parties may obtain further information regarding these rules by referring to FAC 2019-06, which precedes this document. These documents are also available via the internet at http://www.regulations.gov.

DATES: September 10, 2019.

FOR FURTHER INFORMATION CONTACT: For clarification of content, contact the analyst whose name appears in the table below. Please cite FAC 2019-06 and the FAR Case number. For information pertaining to status or publication schedules, contact the Regulatory Secretariat Division at 202-501-4755.

Rules Listed in FAC 2019-06
Item | Subject | FAR case | Analyst
*I | Use of Products and Services of Kaspersky Lab | 2018-010 | Francis.
II | Update of “Affiliates” and Section 8(a) Clauses | 2019-006 | Chambers.
III | Update to Contractor Performance Assessment Reporting System (CPARS) | 2019-005 | Glover.
IV | New World Trade Organization Government Procurement Agreement Country—Australia | 2019-011 | Davis.

SUPPLEMENTARY INFORMATION: Summaries for each FAR rule follow. For the actual revisions and/or amendments made by these rules, refer to the specific item numbers and subjects set forth in the documents following these item summaries. FAC 2019-06 amends the FAR as follows:

Item I—Use of Products and Services of Kaspersky Lab (FAR Case 2018-010

This final rule adopts an interim rule published on June 15, 2018, without changes. The interim rule implemented section 1634 of Division A of the National Defense Authorization Act for Fiscal Year 2018 (Pub. L. 115-91), which prohibited the use of hardware, software, and services developed or provided, in whole or in part, by Kaspersky Lab or related entities by the Federal Government, on or after October 1, 2018. The interim rule also required contractors to report any such hardware, software, or services discovered during contract performance. This rule is being implemented as a national security measure to protect Government information and information systems.

Item II—Update of “Affiliates” and Section 8(a) Clauses (FAR Case 2019-006)

This final rule amends the FAR to revise the definition of “affiliates” at FAR 19.101 and 2.101. This rule amends the clauses at FAR 52.219-12, Special 8(a) Subcontract Conditions, and 52.219-17, Section 8(a) Award, to remove an obsolete requirement for 8(a) contractors to obtain written approval from the Small Business Administration and the contracting officer before subcontracting the performance of any contract requirements. This final rule is expected to result in savings for Federal contractors who are participants in the 8(a) Program.

Item III—Update to Contractor Performance Assessment Reporting System (CPARS) (FAR Case 2019-005)

This final rule amends the FAR at FAR 42.1501 and 42.1503 to establish the Contractor Performance Assessment Reporting System (CPARS) as the official system for past performance information. The rule makes conforming changes in FAR parts 9, 13, 15, and 25 to remove all references to Past Performance Information Retrieval System (PPIRS) and adds CPARS for past performance information. The final rule is not expected to have a significant economic impact on small entities, because the rule merely designates an existing system, CPARS, as the single official repository for recording and maintaining contractor performance information.

Item IV—New World Trade Organization Government Procurement Agreement Country—Australia (FAR Case 2019-011)

DoD, GSA, and NASA are issuing a final rule amending the FAR to add Australia as a new World Trade Organization Government Procurement Agreement (WTO GPA) country. Australia is already a designated country, because it is a Free Trade Agreement country.

This final rule has no significant impact on the Government and contractors, including small business entities.

William F. Clark,
Director, Office of Government-wide Acquisition Policy,Office of Acquisition Policy, Office of Government-wide Policy.

[FR Doc. 2019-19364 Filed 9-9-19; 8:45 am]

BILLING CODE 6820-EP-P